ENVIRONMENTAL PROTECTION AGENCY

[FRL-7965-2]

Final Reissuance of General NPDES Permits (GP) for Alaskan Mechanical Placer Mining (Permit Number AKG-37-0000) and Alaskan Medium-Size Suction Dredging (Permit Number AKG-37-1000)

AGENCY: Environmental Protection Agency, Region 10.

ACTION: Final Notice of reissuance of two general permits.

SUMMARY: Two GPs regulating the activities of mechanical placer mining and suction dredge mining for gold placer mining operations in the state of Alaska expire on October 3, 2005. On April 21, 2005, EPA proposed to reissue these two GPs. There was a 45 day comment period.

During the comment period, EPA received comments on the mechanical GP regarding coverage area prohibitions and metals limitations. The GP remains the same as the current GP.

EPA received similar comments as those described above for the medium-size suction dredge GP as well as concern about Endangered Species and the interpretation of a Best Management Practice (BMP). The general permit contains new language on the possibility of requiring an individual permit in areas of concern for Endangered Species and a part of a BMP has been removed. A Response to Comments was prepared for each general permit. EPA has determined that each facility submitting a new Notice of Intent (NOI) prior to the expiration date of the current permit will be automatically covered by the re-issued GP.

DATES: The GPs will be effective October 7, 2005. Since coverage between the current GPs and the reissued GPs is continuous, there is no administrative extension of coverage under these GPs.

ADDRESSES: Copies of the GPs and Responses to Comments are available upon request. Written requests may be submitted to EPA, Region 10, 1200 Sixth Avenue OWW-130, Seattle, WA 98101. Electronic requests may be mailed to: washington.audrey@epa.gov or godsey.cindi@epa.gov.

FOR FURTHER INFORMATION CONTACT: The GPs, Fact Sheets and Response to Comments may be found on the Region 10 Web site at www.epa.gov/r10earth/offices/water.htm under the NPDES Permits section.

Requests by telephone may be made to Audrey Washington at (206) 553-0523 or to Cindi Godsey at (907) 271-6561.

SUPPLEMENTARY INFORMATION:

Executive Order 12866

The Office of Management and Budget has exempted this action from the review requirements of Executive Order 12866 pursuant to Section 6 of that order.

The state of Alaska, Department of Environmental Conservation (ADEC), has certified that the subject discharges comply with the applicable provisions of Sections 208(e), 301, 302, 306 and 307 of the Clean Water Act.

The state of Alaska, Department of Natural Resources, Office of Project Management and Permitting, Alaska Coastal Management Program (ACMP) determined that the GPs did not require a new ACMP review.

Regulatory Flexibility Act

Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that these general permits, as issued, will not have a significant economic impact on a substantial number of small entities.

Dated: August 23, 2005.
Robert R. Robichaud,
Associate Director, Office of Water & Watersheds, Region 10, U.S. Environmental Protection Agency.

[FR Doc. 05-17719 Filed 9-6-05; 8:45 am]

BILLING CODE 6560-50-P